DEPARTMENT OF TRANSPORTATION

Pipeline and Hazardous Materials Safety Administration

49 CFR Part 192

[Docket No. PHMSA-2018-0073]

Pipeline Safety: Guidance on the Extension of the 7-year Integrity Management Reassessment Interval by 6 Months

AGENCY: Pipeline and Hazardous Materials Safety Administration (PHMSA); DOT.

ACTION: Request for comments.

SUMMARY: PHMSA is publishing this document to seek public comments on frequently asked questions (FAQs) developed to provide guidance on what constitutes sufficient justification for an operator to request a 6-month extension to a gas pipeline's 7-year integrity management reassessment interval. This guidance, which consists of one revised and two new FAQs, will implement authority granted by Congress in Section 5(e) of the Pipeline Safety, Regulatory Certainty, and Job Creation Act of 2011 (2011 Act).

DATES: Interested persons are invited to submit comments on or before December 17, 2018.

ADDRESSES: Comments should reference Docket No. PHMSA-2018-0073 and may be submitted in the following ways:

E-gov website: http://www.regulations.gov. This site allows the public to enter comments on any Federal Register document issued by any agency.

Fax: (202) 493-2251.

Mail: Docket Management Facility; U.S. Department of Transportation (DOT), 1200 New Jersey Avenue SE, West Building, Room W12-140, Washington, DC 20590-0001.

Hand Delivery: Room W12-140 on the ground level of the DOT's West Building, 1200 New Jersey Avenue SE, Washington, DC 20590-0001, Monday through Friday between 9 a.m. and 5 p.m. Eastern Standard Time (EST), except Federal holidays.

Instructions: Identify the docket number, PHMSA-2018-0073, at the beginning of your comments. Please note that all comments received will be posted without change to http://www.regulations.gov, including any personal information provided. Anyone may search the electronic form of comments received for PHMSA dockets. You may review the DOT's complete Privacy Act Statement, 65 FR 19476, which was published in the Federal Register on April 11, 2000.

Docket: For access to the docket or to read background documents or comments, go to http://www.regulations.gov at any time. You may also visit Room W12-140 on the ground level of the DOT's West Building, located at 1200 New Jersey Avenue SE, Washington, DC 20590-0001, Monday through Friday between 9 a.m. and 5 p.m. EST, except Federal holidays. If you wish to receive confirmation of receipt of your written comments, please include a stamped, self-addressed postcard with the following statement: “Comments on PHMSA-2018-0073.” The docket clerk will date stamp the postcard prior to returning it to you via the mail. Please note that, due to delays in the delivery of U.S. mail to Federal offices in Washington, DC, we recommend that you consider an alternative method (internet, fax, or professional delivery service) for submitting comments to the docket and ensuring their timely delivery to the DOT.

Note: Privacy Act Statement: the DOT may solicit comments from the public regarding certain general notices. The DOT posts these comments without edit, including any personal information the commenter provides, to www.regulations.gov, as described in the system of records notice (DOT/ALL-14 FDMS). This document can be reviewed at www.dot.gov/privacy.

FOR FURTHER INFORMATION CONTACT:

General: Ms. Nancy White by telephone at 202-366-1419, or email at nancy.white@dot.gov.

Technical: Mr. Kenneth Lee by telephone at 202-366-2694, or email at kenneth.lee@dot.gov.

SUPPLEMENTARY INFORMATION: Congress made several amendments to the pipeline safety statutes in the Pipeline Safety, Regulatory Certainty, and Job Creation Act of 2011 (the 2011 Act). The Secretary of Transportation (the Secretary) has delegated to PHMSA the responsibility for implementing the changes resulting from the 2011 Act. Section 5, “Integrity Management,” paragraph (e), of the 2011 Act made a technical correction to the Federal pipeline safety statutes regarding the performance of integrity management assessments. As part of an operator's integrity management program, operators must assess pipelines in high-consequence areas for defects and anomalies at a minimum of once every 7 years. The technical correction clarified that the Secretary may extend such deadlines by an additional 6 months if the operator submits written notice to the Secretary with sufficient justification of the need for the extension.

To implement this authority, PHMSA is issuing guidance on what constitutes sufficient justification to extend a gas pipeline operator's 7-year integrity management reassessment interval by up to 6 months if the operator submits written notice. PHMSA invites interested individuals to participate by reviewing the FAQs provided below and submitting written comments, data, or other information. Please include any comments on potential safety and environmental impacts that may result from issuance of the FAQs. Before finalizing the FAQs, PHMSA will evaluate all comments received on or before the comment closing date. PHMSA will consider all relevant comments we receive prior to the deadline when making changes to the final FAQs. Comments received after the closing date will be evaluated to the extent practicable.

Once finalized, PHMSA's FAQs will be posted on PHMSA's public website at https://primis.phmsa.dot.gov/gasimp/faqs.htm:

Guidance on the Extension of the 7-year Integrity Management Reassessment Interval by 6 Months (FAQs):

• NEW FAQ-281. How do I extend the assessment schedule beyond 7 years?

Notify PHMSA, in accordance with 49 CFR 192.949, of the need for an extension, which may not exceed 6 months. The notification must be made 180 days prior to end of the 7-year assessment date and include sufficient information to justify the extension.

• NEW FAQ-282. What constitutes sufficient information to justify extension of the assessment interval?

Documentation is required to comply with 49 CFR 192.943 and include:

—An explanation as to why the deadline could not be met and how it will not compromise safety, and

—Identification of any additional actions necessary to ensure public safety during the extension time period.

• REVISED FAQ-207. Table 3 of ASME/ANSI B31.8S indicates that reassessment intervals must be 5 years for some instances in which test pressure was higher than would be required by subpart J. If I conduct my assessments in accordance with Subpart J, must I reassess more frequently than once every 7 years?

Section 192.939(a)(1) specifies requirements for establishing reassessment intervals. Two options are allowed: (i) Basing the interval on identified threats, assessment results, data integration, and risk analysis, or (ii) using the intervals specified in Table 3 of ASME/ANSI B31.8S. An operator using the former option (§ 192.939(a)(1)(i)) could establish intervals longer than those in Table 3. The intervals that can be established by either method are limited to the maximum intervals in the table in § 192.939.

Pressure tests used as integrity management assessments must meet the requirements of Subpart J, including required test pressures. Higher test pressures must be used to justify extended reassessment intervals (§ 192.937(c)(2)). As used here “extended reassessment intervals” refers to any interval longer than 7 years as required by §§ 192.937(a) and 192.939(a) and (b).

Operators conducting assessments by pressure testing and who use test pressures meeting Subpart J requirements may establish a reassessment interval of 7 years, unless their analysis under § 192.939(a)(i) indicates a need for a shorter interval. This is true even if Table 3 would lead to a shorter interval.

Operators who use Table 3 test pressures may establish reassessment intervals in accordance with Table 3 up to the maximums listed in the table in § 192.939, again unless their analysis under § 192.939(a)(i) indicates a need for a shorter interval. Operators who establish intervals longer than 7 years must conduct a confirmatory direct assessment within the 7-year period. (For segments operating at less than 30% specified maximum yield strength, a low-stress reassessment per § 192.941 may be conducted in lieu of confirmatory direct assessment—see § 192.939(b)(1)).

PHMSA may extend the 7-year interval for an additional 6 months if the operator submits written notice that includes sufficient justification regarding the need for an extension (Reference FAQ-281 and 282).

Issued in Washington, DC, on November 7, 2018, under authority delegated in 49 CFR 1.97.
Alan K. Mayberry,
Associate Administrator for Pipeline Safety.

[FR Doc. 2018-24774 Filed 11-14-18; 8:45 am]

BILLING CODE 4910-60-P